ENVIRONMENTAL PROTECTION AGENCY

[ER-FRL-9001-1]

Environmental Impacts Statements; Notice of Availability

RESPONSIBLE AGENCY: Office of Federal Activities, General Information (202) 564-7146 or http://www.epa.gov/compliance/nepa/.

Weekly Receipt of Environmental Impact Statements Filed 01/03/2012 Through 01/06/2012 Pursuant to 40 CFR 1506.9.

NOTICE: Section 309(a) of the Clean Air Act requires that EPA make public its comments on EISs issued by other Federal agencies. EPA's comment letters on EIS are available at: http://www.epa.gov/compliance/nepa/eisdata.html.

EIS No. 20120000, Draft EIS, USFS, OR, Jackson Vegetation Management Project, Implementation, Pauline Ranger District, Ochoco National Forest, Crook County, OR, Comment Period Ends: 02/27/2012, Contact: Jeff Marszal (541) 416-6500.

EIS No. 20120001, Draft EIS, NRC, NM, Fluorine Extraction Process and Depleted Uranium Deconversion Plant, License Application to Construct, Operate, and Decommission Phase 1, Lea County, NM, Comment Period Ends: 02/27/2012, Contact: Asimios Malliakos (301) 415-6458.

EIS No. 20120002, Draft EIS, USFS, NM, Taos Ski Valley 2010 Master Development Plan, Phase 1 Project, Implementation, Carson National Forest, Taos County, NM, Comment Period Ends: 02/27/2012, Contact: Audrey Nes Kuykendall (575) 758-6212.

EIS No. 20120003, Final EIS, NPS, DC, White-Tailed Deer Management Plan, To Develop a White-Trailed Deer Management That Supports Long-Term Protection, Preservation and Restoration of Native Vegetation and Other Natural and Cultural Resources in Rock Creek Park, Washington, DC, Review Period Ends: 02/13/2012, Contact: Tara Morrison (202) 895-6000.

Amended Notices

EIS No. 20110386, Draft Supplement, USFS, ID, Upper Lochsa Land Exchange Project, Updated Information on New Alternative F, Proposes to Exchange National Forest System Land for approximately 39,371 Acres of Western Pacific Timber Land, Federal Land Exchange, Clearwater, Nez Perce and Idaho Panhandle National Forests, Clearwater, Latah, Idaho, Benewah, Kootenai, and Bonner Counties, ID, Comment Period Ends: 02/15/2012, Contact: Teresa Trulock (208) 935-4256.

Revision to FR Notice Published 11/18/2011: Comment Period Extended from 01/17/2012 to 02/15/2012

EIS No. 20110394, Draft EIS, NPS, 00, Appalachian National Scenic Trail, Delaware Water Gap National Recreation Area, Middle Delaware National Scenic and Recreational River, Proposal Susquehanna to Roseland 500kV Transmission Line Right-of-Way and Special-Use-Permit, NJ and PA, Comment Period Ends: 01/31/2012, Contact: Morgan Elmer (303) 969-2317 Revision to FR Notice Published 11/25/2011: Extending Comment Period from 01/23/12 to 01/31/2012.

EIS No. 20110429, Draft EIS, FTA, NJ, Northern Branch Corridor Project, Restoration of Passenger Rail Service in Northeastern Hudson and Southern Bergen Counties, NJ, Comment Period Ends: 02/21/2012, Contact: Anthony Lee (212) 668-2170 Revision to FR Notice Published 12/23/2011: Extending Comment Period from 02/06/2012 to 2/21/2012.

EIS No. 20110440, Revised Draft EIS, USFS, ID, Idaho Panhandle National Forests, Land Management Plan, Revises the 1987 Forest Plan, Implementation, Boundary, Bonner, Kootenai, Benewah, and Shoshone Counties, ID and Pend Oreille County, WA, Comment Period Ends: 04/04/2012, Contact: Mary Farnsworth (208) 765-7223 Revision to FR Notice Published 01/06/2012.

Extending Comment Period from 02/21/2012 to 04/04/2012

EIS No. 20110441, Revised Draft EIS, USFS, MT, Kootenai National Forest Land Management Plan, Revises the 1987 Forest Plan, Implementation, Lincoln, Sanders, Flathead Counties, MT and Bonner and Boundary Counties, ID, Comment Period Ends: 04/04/2012, Contact: Paul Bradford (406) 293-6211 Revision to FR Notice Published 01/06/2012: Extending Comment Period from 02/21/2012 to 04/04/2012.

Dated: January 10, 2012.
Cliff Rader,
Director, NEPA Compliance Division, Office of Federal Activities.

[FR Doc. 2012-570 Filed 1-12-12; 8:45 am]

BILLING CODE 6560-50-P